DEPARTMENT OF TRANSPORTATION

Federal Aviation Administration

14 CFR Part 39

[Docket No. 2002-NE-25-AD; Amendment 39-13014; AD 2003-01-03]

RIN 2120-AA64

Airworthiness Directives; Hartzell Propeller Inc. Model ( )HC-( )2Y( )-( ) propellers

AGENCY: Federal Aviation Administration, DOT.

ACTION: Final rule; request for comments.

SUMMARY: This amendment adopts a new airworthiness directive (AD) that is applicable to Hartzell Propeller Inc. model ( )HC-( )2Y( )-( ) propellers, with certain serial numbers (SN's) of two-bladed aluminum propeller hubs part numbers (P/N's) D-6522-1, D-6522-2, D-6529-1, and D-6559-3 installed. This action requires removal from service of those certain SN's of two-bladed aluminum propeller hubs and replacement with serviceable hubs. This amendment is prompted by a two-bladed aluminum propeller hub manufacturing quality control problem. The actions specified in this AD are intended to prevent in-flight propeller blade separation resulting in airframe and engine damage, and possible loss of the airplane.

DATES: Effective January 23, 2003. The incorporation by reference of certain publications listed in the rule is approved by the Director of the Federal Register as of January 23, 2003.

Comments for inclusion in the Rules Docket must be received on or before March 10, 2003.

ADDRESSES: Submit comments in triplicate to the Federal Aviation Administration (FAA), New England Region, Office of the Regional Counsel, Attention: Rules Docket No. 2002-NE-25-AD, 12 New England Executive Park, Burlington, MA 01803-5299. Comments may be inspected at this location, by appointment, between 8 a.m. and 4:30 p.m., Monday through Friday, except Federal holidays. Comments may also be sent via the Internet using the following address: “9-ane-adcomment@faa.gov”. Comments sent via the Internet must contain the docket number in the subject line.

The service information referenced in this AD may be obtained from Hartzell Propeller Inc. Technical Publications Department, One Propeller Place, Piqua, OH 45356; telephone (937) 778-4200; fax (937) 778-4391. This information may be examined, by appointment, at the FAA, New England Region, Office of the Regional Counsel, 12 New England Executive Park, Burlington, MA; or at the Office of the Federal Register, 800 North Capitol Street, NW., suite 700, Washington, DC.

FOR FURTHER INFORMATION CONTACT: Tomaso DiPaolo, Aerospace Engineer, Chicago Aircraft Certification Office, FAA, Small Airplane Directorate, 2300 East Devon Avenue, Des Plaines, IL 60018; telephone (847) 294-7031; fax (847) 294-7834.

SUPPLEMENTARY INFORMATION: On August 19, 2002, the FAA was notified by Hartzell Propeller Inc. that certain two-bladed aluminum propeller hub SN's installed in 2-bladed propellers were found to have subsurface discontinuities in the aluminum. Some of these hubs have been installed in propellers and some have been shipped as spares. The discontinuities were not removed during the propeller hub forging process, and could initiate fatigue cracking in the propeller hub arms. This final rule; request for comments, replaces affected hubs determined to be under higher stresses based on specific airplane installation, within 50 hours time-since-new (TSN) or 12 months from the effective date of the AD, whichever occurs first, and affected hubs determined to be under lower stresses based on specific airplane installation, within 100 hours TSN or 12 months from the effective date of this AD, whichever occurs first. This condition, if not corrected, could result in in-flight propeller blade separation, airframe and engine damage, and possible loss of the airplane.

Manufacturer's Service Information

The FAA has reviewed and approved the technical contents of Hartzell Propeller Inc. Alert Service Bulletin (ASB) HC-ASB-61-259, dated September 4, 2002, that provides a SN list of 123 affected propeller hubs and describes procedures for hub replacement. This AD action has denoted the remaining 52 serial numbered propeller hubs that need to be replaced.

FAA's Determination of an Unsafe Condition and Required Actions

Since an unsafe condition has been identified that is likely to exist or develop on other propeller hubs of the same type design, this AD is being issued to prevent in-flight propeller blade separation resulting in airframe and engine damage, and possible loss of airplane control. This AD requires removal from service of certain two-bladed aluminum propeller hubs identified by SN and replacement with serviceable two-bladed aluminum propeller hubs. This action lists the remaining 52 serial numbered propeller hubs that need to be replaced. The actions are required to be done in accordance with the alert service bulletin described previously.

Immediate Adoption of This AD

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2002-NE-25-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-01-03 Hartzell Propeller Inc.: Amendment 39-13014. Docket No. 2002-NE-25-AD.

Applicability

This airworthiness directive (AD) is applicable to Hartzell Propeller Inc. model ( )HC-( )2Y( )-( ) propellers, with propeller hub part numbers (P/N's) D-6522-1, D-6522-2, D-6529-1, and D-6559-3, with the serial numbers (SN's) listed in the following Table 1:

Table 1.—Applicable Propellers and Hubs
Propeller SN | Hub SN | Hub P/N
AU11115B | A61365B | D-6522-1
AU11116B | A61366B | D-6522-1
AU11117B | A61367B | D-6522-1
AU11119B | A61369B | D-6522-1
AU11125B | A61375B | D-6522-1
AU11131B | A61381B | D-6522-1
AU11134B | A61384B | D-6522-1
AU11135B | A61385B | D-6522-1
AY515B | A61397B | D-6522-2
AY516B | A61398B | D-6522-2
CH36140B | A61409B | D-6529-1
CH36141B | A61410B | D-6529-1
CH36151B | A61420B | D-6529-1
CH36152B | A61421B | D-6529-1
CH36153B | A61422B | D-6529-1
CH36157B | A61427B | D-6529-1
EU376B | A61443B | D-6559-3
CH36172B | A61547B | D-6529-1
CH36159B | A61553B | D-6529-1
CH36160B | A61554B | D-6529-1
CH36162B | A61556B | D-6529-1
CH36163B | A61557B | D-6529-1
CH36165B | A61560B | D-6529-1
CH36188B | A61563B | D-6529-1
CH36193B | A61568B | D-6529-1
CH36194B | A61569B | D-6529-1
CH36195B | A61570B | D-6529-1
CH36196B | A61571B | D-6529-1
CH36178B | A61573B | D-6529-1
CH36179B | A61574B | D-6529-1
CH36181B | A61576B | D-6529-1
CH36182B | A61577B | D-6529-1
CH36183B | A61578B | D-6529-1
CH36198B | A61583B | D-6529-1
CH36199B | A61584B | D-6529-1
CH36200B | A61585B | D-6529-1
CH36201B | A61586B | D-6529-1
CH36202B | A61587B | D-6529-1
CH36203B | A61588B | D-6529-1
CH36204B | A61589B | D-6529-1
CH36205B | A61590B | D-6529-1
CH36209B | A61594B | D-6529-1
CH36211B | A61596B | D-6529-1
CH36212B | A61597B | D-6529-1
CH36213B | A61598B | D-6529-1
CH36215B | A61601B | D-6529-1
CH36216B | A61602B | D-6529-1
AU11145B | A61603B | D-6522-1
AU11147B | A61605B | D-6522-1
AU11155B | A61613B | D-6522-1
AY520B | A61743B | D-6522-2
AU11175B | A61893B | D-6522-1

These propellers are installed on, but not limited to the following:

AMERICAN CHAMPION 8GCBC, 8KCAB

AERMACCHI S.p.A. S.208, S.208A

BEECH 95 series

BELLANCA 14-19-3, 14-19-3A

CESSNA 170 series, 172 series, 175 series, 177, A188A, A188B, T188C, 310 series

DIAMOND AIRCRAFT DA-40

LAKE (REVO) LA-4, LA-4-200

MAULE Aerospace Technology, Inc. M(T)-7-235( ), M-5-235C, M-6-235, M(X)-7-235

MOONEY M20 series

Pilatus BRITTEN-NORMAN LTD BN-2 series, MK III, MK III-2, MK III-3

PIPER PA-23, PA-23-160, PA-24, PA-24-260, PA-25-260,

PA-28-140, PA-32-300, PA-32S-300, PA-34-200, PA-44-180T

SOCATA—Groupe AEROSPATIALE MS-200, MS 894A, MS 894E, TB-20, TB-21

Sky International Inc (Husky) A-1, S-1T, S-2A, S-2S (previous owners were Christian Industries; Aviat, Inc.; White International, LTD.)

Univair Aircraft Corporation 108 series (previous owner was Stinson)

Vulcanair S.p.A. P68 series (previous owner was Partenavia Construzioni Aeronautiche S.p.A)

Note 1: The parentheses that appear in the propeller models indicate the presence or absence of additional letter(s) which vary the basic propeller hub model designation. This airworthiness directive is applicable regardless of whether these letters are present or absent on the propeller hub model designation.

Note 2: This AD applies to each propeller identified in the preceding applicability provision, regardless of whether it has been modified, altered, or repaired in the area subject to the requirements of this AD. For propellers that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated, unless already done.

To prevent in-flight propeller blade separation resulting in airframe and engine damage, and possible loss of the airplane, do the following:

(a) For Piper PA-32( ) series airplanes with Lycoming 540 series engines rated at 300 horse power or higher, Britten Norman BN-2 series airplanes with Lycoming 540 series engines, acrobatic airplanes including certificated acrobatic airplanes, military trainers, any airplanes routinely exposed to acrobatics usage, and airplanes used for agricultural purposes, remove affected hubs listed by SN in Table 1 of this AD within 50 hours time-since-new (TSN) or 12 months from the effective date of this AD, whichever occurs first, and replace with serviceable hubs, in accordance with paragraphs 3.A. through 3.B.(3) of ASB HC-ASB-61-259, dated September 4, 2002.

(b) For airplanes other than those listed in paragraph (a) of this AD, remove affected hubs listed by SN in Table 1 of this AD within 100 hours TSN or 12 months from the effective date of this AD, whichever occurs first, and replace with serviceable hubs, in accordance with paragraphs 3.A. through 3.B.(3) of ASB HC-ASB-61-259, dated September 4, 2002.

(c) After the effective date of this AD, do not install any propeller assembly that has a hub with a P/N D-6522-1, D-6522-2, D-6529-1, or D-6559-3, with a SN listed in Table 1 of this AD.

Alternative Methods of Compliance

(d) An alternative method of compliance or adjustment of the compliance time that provides an acceptable level of safety may be used if approved by the Manager, Chicago Aircraft Certification Office (ACO). Operators must submit their requests through an appropriate FAA Principal Maintenance Inspector, who may add comments and then send it to the Manager, Chicago ACO.

Note 3: Information concerning the existence of approved alternative methods of compliance with this airworthiness directive, if any, may be obtained from the Chicago ACO.

Special Flight Permits

(e) Special flight permits may be issued in accordance with §§ 21.197 and 21.199 of the Federal Aviation Regulations (14 CFR 21.197 and 21.199) to operate the airplane to a location where the requirements of this AD can be done.

Documents That Have Been Incorporated by Reference

(f) The propeller hub replacements must be done in accordance with Alert Service Bulletin Hartzell Propeller Inc. HC-ASB-61-259, dated September 4, 2002. This incorporation by reference was approved by the Director of the Federal Register in accordance with 5 U.S.C. 552(a) and 1 CFR part 51. Copies may be obtained from Hartzell Propeller Inc. Technical Publications Department, One Propeller Place, Piqua, OH 45356; telephone (937) 778-4200; fax (937) 778-4391. Copies may be inspected at the FAA, New England Region, Office of the Regional Counsel, 12 New England Executive Park, Burlington, MA; or at the Office of the Federal Register, 800 North Capitol Street, NW., suite 700, Washington, DC.

Effective Date

(g) This amendment becomes effective on January 23, 2003.

Issued in Burlington, Massachusetts, on December 31, 2002.
Robert J. Ganley,
Acting Manager, Engine and Propeller Directorate, Aircraft Certification Service.

[FR Doc. 03-226 Filed 1-7-03; 8:45 am]

BILLING CODE 4910-13-P